DEPARTMENT OF HEALTH AND HUMAN SERVICES

Administration for Children and Families

Submission for Office of Management and Budget Review; State Plan Child Support Collection and Establishment of Paternity Title IV-D of the Social Security Act

AGENCY: Office of Child Support Enforcement, Administration for Children and Families, Department of Health and Human Services.

ACTION: Request for public comments.

SUMMARY: The Office of Child Support Enforcement (OCSE), Administration for Children and Families (ACF), U.S. Department of Health and Human Services (HHS), is requesting a 3-year extension of the forms OCSE-21-U4: Transmittal and Notice of Approval of State Plan Material for: Title IV-D of the Social Security Act, and OCSE-100: State Plan (Office of Management and Budget (OMB) #0970-0017, expiration July 31, 2023). No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: OCSE has approved an IV-D state plan for each state. Federal regulations require states to amend their state plans only when necessary to reflect new or revised federal statutes or regulations or material change in any state laws, regulations, policies, or IV-D agency procedures. The requirement for submission of a state plan and plan amendments for the Child Support Enforcement program is found in sections 452, 454, and 466 of the Social Security Act.

Respondents: State IV-D Agencies.

Annual Burden Estimates
Instrument | Total number of respondents | Annual number of responses per respondent | Average burden hours per response | Annual burden hours
State Plan (OCSE-100) | 54 | 12 | .5 | 324
State Plan Transmittal (OCSE-21-U4) | 54 | 12 | .25 | 162

Estimated Total Annual Burden Hours: 486.

Authority: 42 U.S.C. 652, 654, and 666.

Mary B. Jones,
ACF/OPRE Certifying Officer.

[FR Doc. 2023-09005 Filed 4-27-23; 8:45 am]

BILLING CODE 4184-41-P